DEPARTMENT OF HEALTH AND HUMAN SERVICES

Centers for Disease Control and Prevention

[60 Day-06-06AV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Developing a Baseline of Occupational Safety and Health Communication Provided by Trade Associations and Labor Unions to Their Members in Eight Industrial Sectors-New-National Institute for Occupational Safety and Health (NIOSH), Centers for Disease Control and Prevention (CDC).

Background and Brief Description

As mandated in the Occupational Safety and Health Act of 1970 (PL 91-596), the mission of NIOSH is to conduct research and investigations on work-related disease and injury and to disseminate information for preventing identified workplace hazards (Sections 20(a) (1) and (d)). Through the development, organization, and dissemination of information, NIOSH promotes awareness about occupational hazards and their control, and improves the quality of American working life.

Previous research has shown that trade associations and labor unions are primary sources of occupational safety and health (OSH) information. These organizations know the industries they represent and how to relate to the various groups within their respective industries. If NIOSH could learn more about the OSH-related activities of these organizations, it would be a first step in routinely partnering with them to communicate information which impacts worker safety and health. For example, through these organizations NIOSH could learn about unmet occupational safety and health information needs in industry and develop information and communication products to address these needs. Furthermore, with more focused information on the safety and health issues, NIOSH would be in a better position to develop impact communication products to serve this community.

NIOSH proposes to obtain OSH information from trade associations and labor unions that represent each of the eight NIOSH National Occupational Research Agenda (NORA) industry sectors. These sectors are Agriculture, Forestry, and Fishing; Mining; Construction; Manufacturing; Wholesale and Retail Trade; Transportation and Utilities; Public and Private Services; and Healthcare and Social Assistance Industries. The goals of this project are to determine (1) sources of occupational safety and health (OSH) information currently used by the different sector trade associations and labor unions, (2) OSH information presently being disseminated by these different trade associations and labor unions to their members, (3) channels of communication within the different sector associations and unions used to disseminate OSH information, (4) needs for specific types of OSH information, especially those needs not presently being serviced, (5) OSH concerns of industry trade associations and labor unions, (6) awareness and perception of NIOSH as a source of OSH information, (7) use of NIOSH information services (Website, printed materials, 800 number, etc.), (8) usefulness of NIOSH information to address their OSH concerns and (9) credibility of NIOSH as a trusted source of occupational safety and health information. The ultimate desired outcome of this project is to reduce illness and injury for workers on jobs and tasks which pose high risks. Occupational Safety and Health information will be collected from a sample of trade associations and labor unions for each of the NORA industry sectors using a telephone survey. The data collection will be conducted over three years.

To facilitate the survey, NIOSH will interact with trade association and labor organization staff within the industry sectors to ensure that (1) the survey questions developed appropriately capture the needed information, (2) the survey is well received and (3) that the data obtained is representative of the full range of occupations within the targeted industry sectors. These interactions will be structured to foster professional relationships that will improve NIOSH's future communication and information dissemination efforts to these important partners. The process of interacting and surveying the trade associations and labor unions will allow NIOSH to develop a benchmark against which future efforts in partnership and communication can be measured. Working cooperatively on new solutions and distribution of future communication products will promote cooperation and trust between NIOSH and trade and labor groups for the future. There is no cost to respondents for participation in the survey except other than their time.

Estimated Annualized Burden
Sectors | Number of respondents | Number of responses/ respondent | Average burden/hours | Total burden hours
Construction | 120 | 1 | 20/60 | 40
Mining | 49 | 1 | 20/60 | 16.3
Healthcare and Social Assistance | 102 | 1 | 20/60 | 34
Transportation and Utilities | 110 | 1 | 20/60 | 37
Agriculture, Forestry and Fishing | 129 | 1 | 20/60 | 43
Public and Private Services | 143 | 1 | 20/60 | 48
Wholesale and Retail Trade | 137 | 1 | 20/60 | 46
Manufacturing | 145 | 1 | 20/60 | 48
Total | 935 |  | 20/60 | 312

Dated: February 14, 2006.
Joan F. Karr,
Acting Reports Clearance Officer, Centers for Disease Control and Prevention.

[FR Doc. E6-2838 Filed 2-28-06; 8:45 am]

BILLING CODE 4163-18-P